DEPARTMENT OF HOUSING AND URBAN DEVELOPMENT

[Docket No. FR-4984-N-01]

Public Housing Graduation Incentive Bonus Program

AGENCY: Office of the Assistant Secretary for Public and Indian Housing, HUD.

ACTION: Notice of funding availability.

Overview Information:

A. Federal Agency Name: U.S. Department of Housing and Urban Development, Office of Public and Indian Housing.

B. Funding Opportunity Title: Graduation Incentive Bonus Program.

C. Announcement Type: This is the initial announcement.

D. Funding Opportunity Number: The Federal Register number for this NOFA is: FR-4984-N-01. The OMB approval number for this program is 2577-0242.

E. Catalog of Federal Domestic Assistance (CFDA) Number(s): The CFDA number for the Graduation Incentive Bonus Program is 14.850.

F. Dates: The application submission date is July 18, 2005. Grants will be made on a first come first served basis until all funds have been disbursed.

Please be sure to read Section IV of this NOFA and the General Section of the SuperNOFA, published on March 21, 2005 (70 FR 13575) for more information regarding the required electronic application submission requirements.

G. Optional, Additional Overview Content Information:

1. Purpose of Program: The purpose of this NOFA is to invite public housing agencies (PHAs) to apply for a Graduation Incentive Bonus. The Graduation Incentive Bonus is granted to PHAs that can show their public housing residents are moving away from long-term dependence on housing assistance as evidenced by the proportion of households that leaves public housing and end their participation in assisted housing programs during calendar year 2004 as well as the average length of stay among public housing residents. In addition, HUD wants to encourage the timely submission of tenant household data, including End of Participation records.

2. Funding Available: The Department expects to award up to $10 million under the Graduation Incentive Bonus program in fiscal year 2005.

3. Award Amounts. Maximum awards will range from $12,275 to $207,209, based upon PHA low-rent size category. See section II (A) of this NOFA regarding the specific PHA size category and maximum award amounts.

4. Eligible Applicants. All eligible applicants are listed in Appendix A. Eligible applicants are PHAs that operated a public housing program during calendar year 2004; have reported Public and Indian Housing Information Center (PIC) Family Household form HUD-50058 data for residents who ended their residency in public housing during calendar year 2004; have a minimum of 100 dwelling units in management status as reported in PIC as approved by the field office as of January 15, 2005; have a minimum of twenty-five Family Household form HUD-50058 records reported in PIC, and have met the minimum threshold criteria based upon its size category.

5. Limitations. A PHA may submit only one application under this NOFA. This one application per PHA limit applies regardless of whether or not the PHA is a state or regional PHA, except in those instances where such a PHA has more than one PHA code number due to its operating under the jurisdiction of more than one HUD field office. In such an instance, a separate application under each code shall be considered for funding, with the cumulative total of awards not to exceed the maximum funds for which the PHA is eligible based on its size category.

Full Text of Announcement

I. Funding Opportunity Description

A. Definition of Terms

1. Secretary means the Secretary of Housing and Urban Development.

2. PHA size refers to the low-rent size category based upon the number of public housing dwelling units in management status as reported in PIC approved by the field office as of January 15, 2005. Size categories are defined as follows: Small is 100-249 units, Medium is 250-1,249 units, and Large is 1,250+ units.

3. End of Participation (EOP) Records for the purpose of this award refers to the submission of a PIC Family Household form, HUD-50058 with a type of action code of “6,” codified as “End Participation,” for any household that was an active resident during the 2004 calendar year in public housing. In addition, a household, identified by the head of household social security number, may not reappear in a Section 8 program to qualify as a valid EOP record.

4. Length of Stay (LOS) is the tenure of residency in housing assistance programs. LOS is computed by converting dates to decimal years and using one of the following formulas: For residents who have left public housing, LOS = End of Participation Date—Date of Admission. For residents who were active public housing residents on December 31, 2004, LOS = December 31, 2004—Date of Admission. The average length of stay will only be calculated for PIC records with a valid admission date.

B. Program Description

Authority for the up to $10,000,000 in one-year budget authority for the Graduation Incentive Bonus is found in the Consolidated Appropriations Act, 2005 (Pub. L. 108-447, approved December 08, 2004).

The Public Housing Graduation Incentive Bonus is granted to PHAs that can show their public housing residents are moving away from long-term dependence on housing assistance as evidenced by the proportion of households that leave public housing and end their participation in assisted housing programs during calendar year 2004, as well as the average length of stay among public housing residents. HUD expects that a beneficial byproduct of this incentive will be to encourage the timely submission of tenant household data, including End of Participation (EOP) records.

Minimum threshold eligibility will be based upon rank ordering PHAs according to their proportion of EOP records and average lengths of stay among all public housing residents as indicated via the form, HUD-50058 Family Household data during 2004. PHA outcomes will be ranked against similar sized housing authorities. In addition, a PHA must have a minimum of twenty-five Family Household form HUD-50058 records reported in PIC. The overall objective is that PHAs will encourage economic self-sufficiency and a transition from assisted housing, among public housing residents, so that the benefit can be provided to other eligible low-income households who are currently awaiting assistance.

C. Eligible Activities

Graduation Incentive Bonus funds can be used for any and all purposes and activities approved for the Public Housing Operating Fund under section 9 of the United States Housing Act of 1937 and 24 CFR part 990, including programs and activities designed to promote the economic self-sufficiency and management skills of public housing residents.

II. Award Information

A. Total Funding. The Department expects to award up to $10 million under the Graduation Incentive Bonus program in fiscal year 2005. Awards will be made as follows:

1. The size category designation is based on the number of dwelling units in management status as reported in PIC as approved by the field office as of January 15, 2005, to determine the maximum award amount they are eligible for in accordance with the categories listed below.

2. Award dollars are allocated among size categories proportionate to the national population of public housing residents served by each category. Maximum award amounts will be as follows:

Number of dwelling units | Maximum award amount
100-249 units | $12,275
250-1,249 units | 26,198
1,250 or more units | 207,209

B. Period for the Use of Funds. Awards will be obligated no later than September 30, 2005. PHAs will have five years to draw down the funds.

C. Grant Extensions. Extensions are not applicable under this program and will not be granted.

D. Type of Award: Incentive bonus award via a grant agreement.

III. Eligibility Information

A. Eligible Applicants

1. All eligible applicants are listed in Appendix A. Eligible applicants are PHAs that operated a public housing program during the 2004 calendar year; have reported PIC Family Household form, HUD-50058 EOP data during 2004; have a minimum of 100 dwelling units in management status as reported in PIC and approved by the field office as of January 15, 2005; have a minimum of twenty-five Family Household form HUD-50058 records reported in PIC, and have met the minimum threshold criteria based upon their size category.

2. Ineligible Applicants. PHAs with a Troubled Designation are ineligible for funding consideration. Tribes/TDHEs, nonprofit organizations, and resident associations are also ineligible for funding. HUD will not consider an application from an ineligible applicant.

B. Cost Sharing or Matching

Cost sharing and matching are not a requirement for the Graduation Incentive Bonus program.

C. Other

Threshold Minimum Standard. Small and Medium PHAs in the first 30 percent of the distribution of the proportion of EOP records arrayed from largest to smallest and the distribution of average lengths of stay arrayed from shortest to longest, based on size category, satisfy the minimum threshold criteria for eligibility. Large PHAs satisfy the minimum threshold criteria at the 40th percentile of the distributions of proportion of EOP records and average lengths of stay. The threshold criteria for proportion of EOP records and average lengths of stay for public housing residents by PHA size category are detailed below.

• Small: 21.0 percent EOP households and 4.9 years average length of stay;

• Medium: 22.7 percent EOP households and 5.3 years average length of stay;

• Large: 16.0 percent EOP households and 6.3 years average length of stay.

Appendix A lists all eligible PHAs that satisfy the threshold criteria for their size category. Eligibility is determined after PHAs are rank ordered, within their size category, according to average proportion of EOP records and average length of stay for public housing residents and are determined to satisfy both criteria. At a minimum, PHAs have performed at or above both the proportion of EOP records and average length of stay for public housing residents requirements to be eligible for funding, and have a minimum of twenty-five Family Household form HUD-50058 records reported in PIC.

1. Limitations. A PHA may submit only one application under this NOFA. This one application per PHA limit applies regardless of whether or not the PHA is a state or regional PHA, except in those instances where such a PHA has more than one PHA code number due to its operating under the jurisdiction of more than one HUD field office. In such an instance, a separate application under each code shall be considered for funding, with the cumulative total of awards not to exceed the maximum funds for which the PHA is eligible based on its size category. Applicants may submit only one application for an award under the Graduation Incentive Bonus program. HUD will not consider joint applications.

2. Excess Funding Requests. Applicants that request funding in excess of the maximum award that they are eligible to receive will not receive funding consideration.

3. Requirements Applicable to all NOFAs: Please see the General Section of the SuperNOFA, published on March 21, 2005 (70 FR 13575), under Threshold Requirements and Other Threshold Requirements for additional guidance.

4. Labor Standards. Davis-Bacon wage rates or HUD-determined prevailing wage rates, as applicable, must be paid to laborers and mechanics employed in any physical improvements (including non-routine maintenance) carried out with assistance under this NOFA, in accordance with Section 12 of the U.S. Housing Act of 1937 and 24 CFR 968.110(e). In addition, laborers and mechanics employed in routine maintenance must be paid HUD-determined prevailing wage rates in accordance with Section 12.

5. Environmental Requirements. Funds may not be released under this NOFA (except for activities that are excluded from environmental review under 24 CFR part 58 or 50) until the responsible entity, as defined in 24 CFR 58.2(a)(7), completes an environmental review and you submit and obtain HUD approval of a request for release of funds and the responsible entity's environmental certification in accordance with 24 CFR part 58 (or HUD has completed an environmental review under 24 CFR part 50 where HUD has determined to do the environmental review). If you are selected for funding, the responsible entity must assume the environmental review responsibilities for activities funded under this NOFA. For activities that generally would be subject to review under 24 CFR part 58, HUD may make a finding in accordance with § 58.11(d) and may itself perform the environmental review under 24 CFR part 50 if the PHA or the prospective responsible entity objects to the responsible entity conducting the environmental review under part 58. You must provide any documentation to the responsible entity (or HUD, where applicable) that is needed to perform the environmental review. You, and any participant in any physical development, may not undertake any actions with respect to the project that are choice-limiting or could have environmentally adverse effects, including physical improvements or nonroutine maintenance, funded under this NOFA, and you and any participant may not commit or expend HUD or local funds for these activities, until HUD has approved a Request for Release of Funds following a responsible entity's environmental review under 24 CFR part 58, or until HUD has completed an environmental review and given approval for the action under 24 CFR part 50.

IV. Application and Submission Information

A. Address To Request Application Package

Applicants may download copies of the published General Section of the SuperNOFA and this Program NOFA from the grants.gov Web site at http://www.grants.gov/FIND or if you have difficulty accessing the information you can call HUD's NOFA Information Center toll-free at 800-HUD-8929. Persons with hearing and speech impairments may also call toll-free at 800-HUD-2209 (TTY) or the Grants.gov Help Desk at 800-518-Grants. The operator will assist you in accessing the information.

B. Content and Form of Application Submission

1. Application Preparation. a. Before preparing an application for funding under this program, applicants should carefully review Appendix A to determine their eligibility for the Graduation Incentive Bonus.

b. Applicants should make sure to include all requested information, according to the instructions found in this NOFA. This will help ensure a fair and accurate review of your application.

2. Content and Format for Submission. In order to be funded, applicants must make a timely submission of the application and satisfy minimum threshold criteria. Applicants are not asked to propose new activities or programs for receipt of Graduation Incentive Bonus grants.

3. Content of Application. a. Applicants are required to submit form SF 424. Data regarding the change in EOP records will be pulled from the PIC data previously submitted by each PHA.

b. An application submitted through grants.gov for the Graduation Incentive Bonus program constitutes the applicant's certification, acknowledgement and agreement that the intended use of any funds it may be awarded under the Graduation Incentive Bonus program will be used in accordance with the regulatory guidelines for the Operating Fund under 24 CFR part 990.

C. Submission Dates and Times

1. A complete application must be received electronically by the grants.gov portal no later than 11:59:59 p.m. Eastern time on or before July 18, 2005. Proof of timely submission is automatically recorded by grants.gov when the application is received. An electronic time stamp is generated within the system when an application is successfully received at grants.gov. All applications received by grants.gov after the established submission deadline will not be considered for funding by HUD. Please see Section IV.F. of the General Section of the SuperNOFA (70 FR 13575) for electronic application submission requirements.

D. Intergovernmental Review

Not applicable.

E. Funding Restrictions

1. Funds are restricted to activities as allowed under the 24 CFR part 990 regulations governing the Public Housing Operating Fund. By submitting an application for the Graduation Incentive Bonus Program, via Grants.gov, applicants are certifying that the intended use of funds received is allowable under 24 CFR part 990.

F. Other Submission Requirements

1. Application Submission and Receipt Procedures

Electronic Delivery. HUD requires applicants to submit applications electronically through http://www.grants.gov/Apply. Applicants interested in applying for funding must submit their applications electronically via the Web site http://www.grants.gov/Apply. This site has easy to follow step-by-step instructions that will enable you to apply for HUD assistance. The http://www.grants.gov/Apply feature includes a simple, unified application process to enable applicants to apply for grants online.

Please read the General Section of the SuperNOFA carefully and completely for the electronic submission procedures for all applications because failure to comply may disqualify your application.

2. Waivers: Waivers of electronic submission requirements will not be granted for this NOFA.

V. Application Review Information

A. Criteria

Factors for Award. Award of funds will not be based upon a point system. Rather, funds will be awarded to eligible applicants listed in Appendix A until all funds have been disbursed.

B. Review and Selection Process

1. Review Process. Only one review will be conducted: a screening to determine whether your application submission is complete, meets minimum threshold, is on time and funds are available.

Selection Process. Eligible PHAs are listed in Appendix A. These PHAs are invited to apply for award funds. The selection process is designed to achieve diversity of awards by PHA size categories based on the national proportion of public housing residents served by each size category. Awards will be distributed to all eligible applicants that apply.

C. Corrections to Deficient Applications

After the application submission date, HUD may not, consistent with its regulations in 24 CFR part 4, subpart B, consider any unsolicited information you, the applicant, may want to provide. HUD may contact you to clarify an item in your application or to correct technical deficiencies. HUD may not seek clarification of items or responses that improves the substantive quality of your response to any rating factors. In order not to unreasonably exclude applications from being rated and ranked, HUD may contact applicants to ensure proper completion of the application and will do so on a uniform basis for all applicants.

Examples of curable (correctable) technical deficiencies include inconsistencies in the funding request, a failure to submit the proper certifications or failure to submit an application that contains a signature by an official able to make a legally binding commitment on behalf of the applicant. In the case of an applicant that received a waiver, the technical deficiency may include failure to submit an application that contains an original signature. If HUD finds a curable deficiency in the application, HUD will notify you in writing by describing the clarification or technical deficiency. HUD will notify applicants by facsimile or by USPS, return receipt requested. Clarifications or corrections of technical deficiencies in accordance with the information provided by HUD must be submitted within 7 calendar days of the date of receipt of the HUD notification. (If the due date falls on a Saturday, Sunday or federal holiday, your correction must be received by HUD on the next day that is not a Saturday, Sunday or federal holiday.) If the deficiency is not corrected within this time period, HUD will reject the application as incomplete and it will not be considered for funding. An applicant's response to a HUD notification of a curable deficiency should be submitted directly to HUD in accordance with the instructions provided in the notification.

VI. Award Administration Information

A. Award Notices

HUD will make announcements of awards after the application review process is completed. HUD will notify successful applicants via letter using the U.S. Postal Service. Funds will be disbursed in conjunction with the Operating Fund final allocation process. Unsuccessful applicants will also be notified via letters. All decisions are final. No appeals will be granted.

B. Debriefings

Applicants that are not funded may request a debriefing. Applicants requesting to be debriefed must send a written request to: Iredia Hutchinson, Director, Grants Management Center, 501 School Street, SW., Suite 800, Washington, DC 20024. Please refer to the General Section (70 FR 13575) for additional information on debriefings.

C. Administrative and National Policy Requirements

1. Applicable Requirements. Grantees are subject to the following regulations and requirements:

a. 24 CFR part 85 Administrative Requirements for Grants and Cooperative Agreements to State, Local, and Federally Recognized Indian Tribal Governments;

b. 24 CFR part 990 The Public Housing Operating Fund Program;

c. 24 CFR part 968 Public Housing Modernization except that Section III.C.(5) of this NOFA governs environmental requirements under this NOFA;

d. OMB Circular A-87 Cost Principles for State, Local, and Indian Tribal Governments;

e. OMB Circular A-122 Cost Principles for Nonprofit Organizations; and

f. OMB Circular A-133 Audits of States, Local Governments, and Non-Profit Organizations.

2. Economic Opportunities for Low- and Very Low-Income Persons (Section 3). Applicants and grantees must also comply with Section 3 of the Housing and Urban Development Act of 1968 (12 U.S.C. 1701u) and ensure that training, employment, and other economic opportunities shall, to the greatest extent feasible, be directed toward low and very low-income persons, particularly those who are recipients of government assistance for housing and to business concerns that provide economic opportunities to low- and very low-income persons.

3. Executive Order 13202, Preservation of Open Competition and Government Neutrality Towards Government Contractors' Labor Relations on Federal and Federally Funded Construction Projects. For further information, see the General Section of the SuperNOFA.

4. Fair Housing and Civil Rights Laws. Applicants and their subrecipients must comply with all Fair Housing and Civil Rights laws, statutes, regulations, and Executive Orders as enumerated in 24 CFR 5.105(a), as applicable. Please see the General Section of the SuperNOFA for more information.

5. Procurement of Recovered Materials. For further information, see the General Section of the SuperNOFA.

D. Reporting

There are no reporting requirements for use of these Graduation Incentive Bonus funds.

VII. Agency Contact(s)

For questions and technical assistance, applicants may call the Public and Indian Housing Information and Resource Center at 800-955-2232. For the hearing or speech impaired, please call the Federal Relay Service at 800-877-8339. (These are toll-free numbers.)

VIII. Other Information

A. Transfer of Funds

HUD does not have the discretion to transfer funds for the Graduation Incentive program to or from any other program.

B. Paperwork Reduction Act

The information collection requirements contained in this document have been approved by the Office of Management and Budget (OMB) under the Paperwork Reduction Act of 1995 (44 U.S.C. 3501-3520) and assigned OMB control number 2577-0242. In accordance with the Paperwork Reduction Act, HUD may not conduct or sponsor, and a person is not required to respond to, a collection of information unless the collection displays a currently valid OMB control number. Public reporting burden for the collection of information is estimated to average 75 hours per annum per respondent for the application and grant administration. This includes the time for collecting, reviewing, and reporting the data for the application.

Dated: May 26, 2005.
Paula O. Blunt,
General Deputy Assistant Secretary for Public and Indian Housing.

BILLING CODE 4210-33-P

[FR Doc. 05-10959 Filed 6-1-05; 8:45 am]

BILLING CODE 4210-33-C